DEPARTMENT OF HEALTH AND HUMAN SERVICES

Administration for Children and Families

Proposed Information Collection Activity; Immediate Disaster Case Management Intake Assessment (OMB #0970-0461)

AGENCY: Office of Human Services, Emergency Preparedness and Response, Administration for Children and Families, HHS.

ACTION: Request for public comment.

SUMMARY: The Office of Human Services, Emergency Preparedness and Response (OHSEPR) is the emergency management office of the U.S. Department of Health and Human Services' (HHS) Administration for Children and Families (ACF). OHSEPR is requesting a 3-year extension of the Immediate Disaster Case Management Intake Assessment tool (OMB #0970-0461). The content of the form has not changed. There is one modification to the proposed use of resulting aggregate data, to include a use to advance research with a goal of developing a Quality Assurance/Performance Improvement process.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research and Evaluation (OPRE), 330 C Street SW, Washington, DC 20201, Attn: ACF Reports Clearance Officer. All requests, emailed or written, should be identified by the title of the information collection.

SUPPLEMENTARY INFORMATION:

Description: OHSEPR leads HHS's and ACF's disaster human services missions conducted under the National Response Framework's Emergency Support Function 6 (ESF 6), Mass Care, Emergency Assistance, Temporary Housing, and Human Services. OHSEPR's ESF 6 disaster operations include implementation of disaster human services case management missions to connect disaster survivors to resources and services that support their individual and family recovery from disaster.

The primary purpose of the information collection pertains to the implementation of OHSEPR's delivery of case management services to individuals and households impacted by a disaster. OHSEPR's disaster case managers collect information during intake assessments that is utilized to identify a disaster survivor's unmet needs and connect them with resources. OHSEPR also utilizes this information to target resources and improve its disaster human services operations.

The information collection will be used to support OHSEPR's goal to quickly identify critical gaps, resources, needs, and services to support state, local, and non-profit capacity for disaster case management and to augment and build human service capacity where none exists. All information gathered will be used to (1) provide case management services to survivors and (2) inform the delivery of disaster case management services and programmatic strategies and improvements.

Respondents: Individuals impacted by a disaster.

Annual Burden Estimates
Instrument | Total number of respondents | Total number of responses per respondent | Average burden hours per response | Total burden hours | Annual burden hours
Immediate Disaster Case Management Intake Assessment | 1,564 | 1 | 1 | 1,564 | 521

Estimated Total Annual Burden Hours: 521.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 426 of the Robert T. Stafford Disaster Relief and Emergency Assistance Act, as amended, 42 U.S.C.

Mary B. Jones,
ACF/OPRE Certifying Officer.

[FR Doc. 2020-06182 Filed 3-24-20; 8:45 am]

BILLING CODE 4184-PC-P